DEPARTMENT OF ENERGY

Federal Energy Regulatory Commission

[Docket No. RP96-389-083]

Columbia Gulf Transmission Company; Notice of Compliance Filing

April 18, 2003.

Take notice that on April 15, 2003, Columbia Gulf Transmission Company (Columbia Gulf) tendered for filing as part of its FERC Gas Tariff, Second Revised Volume No. 1, the following revised tariff sheets bearing a proposed effective date of December 15, 2002:

Fifth Revised Sheet No. 46

Third Revised Sheet No. 47

Third Revised Sheet No. 318

Columbia Gulf states that it is making this filing to comply with the Commission's March 26, 2003 order in RP96-389-076 (103 FERC ¶61,320, March 26 Order). In the March 26 Order, the Commission accepted the non-conforming agreement between Stone Energy and Columbia Gulf (Stone Agreement) subject to conditions. The Commission directed Columbia Gulf to either remove the non-conforming provision from the Stone Agreement or, alternately, modify its Tariff and pro forma service agreement to provide similarly situated shippers taking service under Columbia Gulf's FTS-2 firm transportation rate schedule the right to adjust transportation demand at predetermined intervals. In compliance with the Commission's March 26 Order, Columbia Gulf's proposed tariff sheets add Section 2(g) to its FTS-2 Rate Schedule.

Columbia Gulf states that copies of the filing have been mailed to all firm customers, interruptible customers, and affected state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 28, 2003.

Dated:
Magalie R. Salas,
Secretary.

[FR Doc. 03-10211 Filed 4-23-03; 8:45 am]

BILLING CODE 6717-01-P